DEPARTMENT OF JUSTICE

Lodging of Consent Decree Under the Clean Water Act

Notice is hereby given that on May 27, 2009, a proposed Consent Decree in United States v. City of Lebanon, New Hampshire, Civil Action No. 1:09-CV-180, was lodged with the United States District Court for the District of New Hampshire.

In this action, the United States seeks, inter alia, injunctive relief in relation to discharges by the City of Lebanon, New Hampshire (City) from its combined sewer overflows (CSOs), in violation of the City's National Pollutant Discharge Elimination System Permit issued under the Clean Water Act, 33 U.S.C. 1251, et seq. The Consent Decree requires the City, among other things, to eliminate discharges from all CSO outfalls by December 31, 2020; achieve specific sewer separation projects on a definitive schedule; eliminate illicit discharges; and submit and implement a monitoring, maintenance and corrective action plan.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. City of Lebanon, New Hampshire, D.J. Ref. 90-5-1-1-09227.

The Consent Decree may be examined at the Office of the United States Attorney, District of New Hampshire, 53 Pleasant Street, Concord, NH, and at U.S. EPA Region 1, 1 Congress Street, Boston, MA. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $100.00 (25 cents per page reproduction costs of Consent Decree and Appendices) payable to the U.S. Treasury or, if by e-mail or fax, forward a check in that amount to the Consent Decree Library at the stated address.

Maureen Katz,
Assistant Chief, Environmental Enforcement Section, Environment and Natural Resources Division.

[FR Doc. E9-12730 Filed 6-1-09; 8:45 am]

BILLING CODE 4410-15-P